DEPARTMENT OF THE INTERIOR

Fish and Wildlife Service

50 CFR Part 80

RIN 1018-AD83

Federal Aid in Sport Fish Restoration Program; Participation by the District of Columbia and U.S. Insular Territories and Commonwealths

AGENCY: Fish and Wildlife Service, Interior.

ACTION: Final rule.

SUMMARY: We, the U.S. Fish and Wildlife Service (Service), will conform our regulations for the Federal Aid in Sport Fish Restoration Program to a recently enacted law by letting the States spend up to 15 percent (not just 10 percent as previously allowed) of their Federal Aid funds on aquatic education and outreach and communications. Because their circumstances are different, we will also let the Commonwealth of Puerto Rico, the District of Columbia, the Commonwealth of the Northern Mariana Islands, Guam, the Virgin Islands, and American Samoa spend in excess of 15 percent for these purposes, with the approval of the appropriate Fish and Wildlife Service Regional Director. We are also defining existing requirements for the collection of information required by the Paperwork Reduction Act and the Office of Management and Budget's implementing regulation.

DATES: This rule is effective on May 7, 2001.

ADDRESSES: The administrative record for this rule is available for viewing Monday through Friday, 8 a.m. to 4 p.m., in the Division of Federal Aid, 4401 North Fairfax Drive, Suite 140, Arlington, Virginia 22203.

FOR FURTHER INFORMATION CONTACT: Kris E. LaMontagne, Chief, Division of Federal Aid, U.S. Fish and Wildlife Service. Telephone: (703) 358-2156.

SUPPLEMENTARY INFORMATION:

Background

Through the Federal Aid in Sport Fish Restoration Program, the Service disburses funds to States (including the District of Columbia and the U.S. insular territories and Commonwealths) to restore and manage the Nation's fishery resources. The States use the funds to fund fisheries research, surveys, and management; purchase and restore habitat; operate hatcheries; build boat access; and provide aquatic education and outreach and communications programs.

The Federal Aid in Sport Fish Restoration Act (Act), 16 U.S.C. 777 et seq., authorizes the program. It was enacted in 1950, and carried out by regulations in 50 CFR part 80, “Administrative Requirements, Federal Aid in Fish and Federal Aid in Wildlife Restoration Acts.” The Service derives funds for the Program from excise and import taxes on fishing tackle and motorboat fuel. The manufacturer or importer collects the tax and pays it to the U.S. Department of the Treasury, who transfers the money to the Service for distribution to the States.

Congress has amended the Act several times. The Transportation Equity Act for the 21st Century (Public Law 105-178), passed in 1998, commonly called TEA-21, increased from 10 percent to 15 percent the maximum allowable expenditure of Sport Fish Restoration apportioned dollars for aquatic education, which now also applies to outreach and communications projects. Section 777g(c) of the Act states, “(E)ach State may use not to exceed 15 percent of the funds apportioned to it under Section 777c of this title to pay up to 75 percent of the costs of an aquatic resource education and outreach and communications program for the purpose of increasing public understanding of the Nation's water resources and associated aquatic life forms.” In addition, section 777k of the Act states in part that “(T)he Secretary of the Interior (Secretary) is authorized to cooperate with the Secretary of Agriculture of Puerto Rico, the Mayor of the District of Columbia, the Governor of Guam, the Governor of American Samoa, the Governor of the Commonwealth of the Northern Mariana Islands, and the Governor of the American Virgin Islands, in the conduct of fish restoration and management projects, as defined in section 777a of this title, upon such terms and conditions as he shall deem fair, just, and equitable * * *”

On June 9, 2000, the Service published a proposed rule in the Federal Register (65 FR 36653) to amend 50 CFR part 80 to carry out TEA-21. Specifically we proposed to amend § 80.15 to raise the amount that States may expend for aquatic education and outreach and communications to 15 percent. We also proposed to allow the Commonwealth of Puerto Rico, the District of Columbia, the Commonwealth of the Northern Mariana Islands, Guam, the Virgin Islands, and American Samoa to spend a higher percentage of their funds for this purpose, as determined by the appropriate Regional Director. We also proposed to rewrite 50 CFR 80.15 in plain language and to add a new 50 CFR 80.27 concerning information collection requirements. We received no comments during the 60-day comment period, which ended August 8, 2000.

Required Determinations

We have examined this action under the Paperwork Reduction Act (PRA) of 1995 and found it to contain no new or revised information collection requirements. We currently have approval for Grant Agreements and Amendments (1018-0049), Part 1 Certification and Part 2 Summary of Hunting and Fishing Licenses (1018-0007), and The Federal Aid Grant Application Booklet (1018-0109). However, a new section, 50 CFR 80.27, is added to fulfill the public notice requirements of the PRA for existing approved information collection requirements contained in part 80.

The Office of Management and Budget determined this document is not a significant regulatory action under Executive Order 12866, Regulatory Planning and Review.

This rule will not have an annual economic effect of $100 million or adversely affect an economic sector, productivity, jobs, the environment, or other units of government. Neither a cost or benefit economic analysis is required because of the low dollar amount of this proposed rule change. This change will simply redistribute existing money. The District of Columbia, the Commonwealth of the Northern Mariana Islands, Guam, the Virgin Islands, and American Samoa (but not Puerto Rico) each receives an annual apportionment of one-third of one percent of the Sport Fish Restoration account. Over the last 10 years, this amount has ranged from about $580,000 to $910,000, with an average of approximately $720,000 per year. In 2000, the apportionment was $803,128, which permitted them to each spend $120,469 (15 percent) for aquatic education and outreach and communications. Puerto Rico, which receives 1 percent, has a 10-year average of $2,164,533, with a 2000 apportionment of $2,409,383, and currently has an aquatic education and outreach and communications spending limit of $361,407. The dollar amounts of this rule will not have a major effect on the affected economies, since the money would have been obligated under programs other than aquatic education and outreach and communications without this change.

This rule will not create inconsistencies with other agencies' actions or materially affect entitlements, grants, user fees, loan programs, or the rights and obligations of their recipients. This rule increases the allowable spending levels of Sport Fish Restoration dollars for aquatic education and outreach and communications, not the total apportionment for the recipients.

This rule will not raise novel legal or policy issues. The 15-percent limit applying to States was done through congressional action. The raised spending authority for the District of Columbia and the U.S. Insular Territories and Commonwealths simply recognizes the different situations that these recipients have concerning opportunities for aquatic education and outreach and communications projects. The Act authorizes cooperation with the Commonwealth of Puerto Rico, the District of Columbia, the Commonwealth of the Northern Mariana Islands, Guam, the Virgin Islands, and American Samoa.

The Department of the Interior certifies that this rule will not have a significant economic effect on a substantial number of small entities under the Regulatory Flexibility Act of 1980 (5 U.S.C. 601 et seq.). This action affects, by giving them more flexibility, the Commonwealth of Puerto Rico, the District of Columbia, the Commonwealth of the Northern Mariana Islands, Guam, the Virgin Islands, and American Samoa. These entities govern populations of more than 50,000, and, therefore, they are not small entities as defined in 5 U.S.C. 601. The change simply allows for the redistribution of existing funds.

Additional funding for aquatic education and outreach and communications will benefit local residents without appreciable losses in management capability. No discernible effects on product prices or other economic effects are associated with this rule.

We have determined and now certify pursuant to the Unfunded Mandates Reform Act (2 U.S.C. 1502 et seq.) that this rulemaking will not impose a cost of $100 million or more in any given year on local, State, or territorial governments or private entities.

This rule is not a major rule under 5 U.S.C. 804(2), the Small Business Regulatory Enforcement Fairness Act. This rule does not have an annual effect on the economy of $100 million or more, will not cause a major increase in costs or prices for consumers, individual industries, Federal, State, territorial, or local government agencies, or geographic regions; and does not have significant adverse effects on competition, employment, investment, productivity, innovation, or the ability of U.S.-based enterprises to compete with foreign-based enterprises. This rule change allows redirection of certain monies within a total apportionment. No added or reduced total funding is involved in this change.

We have determined that these regulations meet the applicable standards provided in sections 3(a) and 3(b)(2) of Executive Order 12988, Civil Justice Reform.

In accordance with Executive Order 13132, the rule does not have significant Federalism effects. A Federalism assessment is not required. This rule gives the recipients (the District of Columbia, the Commonwealth of Puerto Rico, the Commonwealth of the Northern Mariana Islands, Guam, the Virgin Islands, and American Samoa) more self-determination by allowing them more flexibility in their spending decisions.

We have analyzed this rule in accordance with the criteria of the National Environmental Policy Act and 516 DM 2, Appendix 1. This rule does not constitute a major Federal action significantly affecting the quality of the human environment. An environmental impact statement/assessment is not required due to the categorical exclusion (1.10) for administrative changes.

In accordance with Executive Order 12630, the rule does not have significant takings implications. A takings implication assessment is not required. This rule has no taking of personal property implications; it is restricted to grants administration for government entities.

In accordance with the President's memorandum of April 29, 1994, “Government-to-Government Relations with Native American Tribal Governments” (59 FR 22951), Executive Order 13175, and 512 DM 2, although generally not applicable, we are coordinating with federally recognized tribes on a Government-to-Government basis when needed.

List of Subjects in 50 CFR Part 80

Fish, Grant programs—natural resources, Reporting and recordkeeping requirements, Signs and symbols, Wildlife.

Accordingly, we amend part 80, Subchapter F of chapter I, title 50 of the Code of Federal Regulations as follows:

PART 80—[AMENDED]

1. The authority citation for part 80 continues to read as follows:

Authority: 16 U.S.C. 777i; 16 U.S.C. 669i; 18 U.S.C. 701.

2. Revise § 80.15 to read as follows:

§ 80.15 Allowable costs.

(a) What are allowable costs? Allowable costs are costs that are necessary and reasonable for accomplishment of approved project purposes and are in accordance with the cost principles of OMB Circular A-87 (For availability, see 5 CFR 1310.3.).

(b) What is required to determine the allowability of costs? Source documents or other records as necessary must support all costs to substantiate the application of funds. Such documentation and records are subject to review by the Service and, if necessary, the Secretary to determine the allowability of costs.

(c) Are costs allowable if they are incurred prior to the date of the grant agreement? Costs incurred prior to the effective date of the grant agreement are allowable only when specifically provided for in the grant agreement.

(d) How are costs allocated in multipurpose projects or facilities? Projects or facilities designed to include purposes other than those eligible under either the Sport Fish Restoration or Wildlife Restoration Acts must provide for the allocation of costs among the various purposes. The method used to allocate costs must produce an equitable distribution of costs based on the relative uses or benefits provided.

(e) What is the limit on administrative costs for State central services? Administrative costs in the form of overhead or indirect costs for State central services outside of the State fish and wildlife agency must be in accord with an approved cost allocation plan and cannot exceed in any one fiscal year three per centum of the annual apportionment to that State. Each State has a State Wide Cost Allocation Plan that describes approved allocations of indirect costs to agencies and programs within the State.

(f) How much money may be obligated for aquatic education and outreach and communications? (1) Each of the 50 States may spend no more than 15 percent of the annual amount apportioned to it under provisions of the Federal Aid in Sport Fish Restoration Act for an aquatic education and outreach and communications program for the purpose of increasing public understanding of the Nation's water resources and associated aquatic life forms.

(2) The Commonwealth of Puerto Rico, the District of Columbia, the Commonwealth of the Northern Mariana Islands, Guam, the Virgin Islands, and American Samoa are not limited to the 15-percent cap imposed on the 50 States. Each of these entities may spend more for these purposes with the approval of the appropriate Regional Director.

3. Add § 80.27 to read as follows:

§ 80.27 Information collection requirements.

(a) Information gathering requirements include filling out forms to apply for certain benefits offered by the Federal Government. Information gathered under this part is authorized under the Federal Aid in Sport Fish Restoration Act (16 U.S.C. 777-7771) and the Federal Aid in Wildlife Restoration Act (16 U.S.C. 669-669i). The Service may not conduct or sponsor, and applicants or grantees are not required to respond to, a collection of information unless the request displays a currently valid OMB control number. Our requests for information will be used to apportion funds and to review and make decisions on grant applications and reimbursement payment requests submitted to the Federal Aid Program.

(b) OMB Circular A-102 requires the use of several Standard Forms: SF-424, SF-424A and SF-424B, SF-424C, SF-424D, SF-269A and SF-269B, SF-270, SF-271 and SF-272 (For availability, see 5 CFR 1310.3.). Combined, as many as 12,000 of these forms are used annually by grant applicants. The individual burden is approximately 1 hour to compile information and complete each form; the total burden is approximately 12,000 hours (approximately 3,500 grants are awarded/renewed each year, but not all forms are used for all grants). These forms are needed to document grant applications and requests for reimbursement.

(c) Part 1 Certification (Service Form 3-154A, OMB Control No. 1018-0007) and Part 2 Summary of Hunting and Sport Fishing Licenses Issued (Service Form 3-154B, OMB Control No. 1018-0007) require approximately one-half hour from each of 56 respondent States and territories for a total burden of 28 hours. The information is routinely collected by the States and territories and easily transferred to these forms and certified. This information is used in a statutory formula to apportion funds among the grant recipients.

(d) The Grant Agreement, (Service Form 3-1552, OMB Control No. 1018-0049) and Amendment to Grant Agreement, (Service Form 3-1591, OMB Control No. 1018-0049) require approximately 1 hour to gather relevant information, review, type, and sign. This information is compiled in the normal agency planning processes and transferred to these forms. Recipients nationwide complete approximately 3,500 Grant Agreement forms and 1,750 Amendment to Grant Agreement forms during any fiscal year for a total burden of 5,250 hours. This information is used to document financial awards made to grant recipients and amendments to these awards.

(e) The Federal Aid Grant Application Booklet (OMB Control No. 1018-0109) contains narrative instruction for applying for grants. It requires approximately 80 hours to collect information and prepare a grant application package. Applicants prepare and submit about 5,250 of these grant application packages annually for a total burden of 283,500 hours. This information is used to determine if the work, cost, and future benefits of a grant application meet the needs of the Federal Aid in Sport Fish and Wildlife Restoration programs.

(f) The public is invited to submit comments on the accuracy of the estimated average burden hours needed for completing Part I—Certification, Part II—Summary of Hunting and Sport Fishing Licenses Issued, Grant Agreement, Amendment to Grant Agreement, or The Federal Aid Grant Application Booklet and to suggest ways in which the burden may be reduced. Comments may be submitted to: U.S. Fish and Wildlife Service, Information Collection Clearance Officer, 4401 North Fairfax Drive, Suite 222, Arlington, VA 22203.

Dated: March 20, 2001.
Joseph E. Doddridge,
Acting Assistant Secretary for Fish and Wildlife and Parks.

[FR Doc. 01-8418 Filed 4-5-01; 8:45 am]

BILLING CODE 4310-55-P